DEPARTMENT OF COMMERCE

International Trade Administration

[A-580-831]

Stainless Steel Plate in Coils From the Republic of Korea: Extension of Time Limit for the Preliminary and Final Results of the Antidumping Duty Administrative Review

AGENCY: Import Administration, International Trade Administration, Department of Commerce.

ACTION: Notice of extension of time limit for the preliminary and final results of antidumping duty administrative review.

SUMMARY: The Department of Commerce (“the Department”) is extending the time limit for the preliminary and final results of the review of stainless steel plate in coils from the Republic of Korea. This review covers the period November 4, 1998 through April 30, 2000.

EFFECTIVE DATE: March 14, 2001.

FOR FURTHER INFORMATION CONTACT: Rick Johnson at (202) 482-3818; Office of AD/CVD Enforcement, Group III, Office 9, Import Administration, International Trade Administration, U.S. Department of Commerce, 14th Street and Constitution Avenue, NW, Washington, DC 20230.

The Applicable Statute

Unless otherwise indicated, all citations to the statute are references to the provisions effective January 1, 1995, the effective date of the amendments made to the Tariff Act of 1930 (the Act) by the Uruguay Round Agreements Act (URAA).

Postponement of Preliminary and Final Results

On December 26, 2000, we published an extension of the preliminary results by 45 days. See 65 FR 81488. The Department has now determined that it is not practicable to issue its preliminary and final results of the administrative review within the current time limit of March 17, 2001, and July 15, 2001. See Decision Memorandum from Edward C. Yang, Director, Office 9, to Joseph A. Spetrini, Deputy Assistant Secretary, Enforcement Group III. Therefore, the Department is extending the time limit for completion of the preliminary results until May 31, 2001, in accordance with section 751(a)(3)(A) of the Act. In addition, the Department is extending the time limit for completion of the final results until 180 days after the date of publication of the preliminary results, in accordance with section 751(a)(3)(A) of the Act.

Dated: March 7, 2001.
Joseph A. Spetrini,
Deputy Assistant Secretary, Enforcement Group III.

[FR Doc. 01-6362 Filed 3-13-01; 8:45 am]

BILLING CODE 3510-DS-P